DEPARTMENT OF EDUCATION

Submission for OMB Review; Comment Request

AGENCY: Department of Education.

ACTION: Correction notice.

SUMMARY: On March 10, 2008, the Department of Education published a comment period notice in the Federal Register (Page 12717, Column 2) for the information collection, “Tech-Prep Demonstration Grants.” The responses are hereby corrected to 20 and the burden hours to 1,301.

The IC Clearance Official, Regulatory Information Management Services, Office of Management, hereby issues a correction notice as required by the Paperwork Reduction Act of 1995.

Dated: March 10, 2008.
Angela C. Arrington,
IC Clearance Official, Regulatory Information Management Services, Office of Management.

[FR Doc. E8-5092 Filed 3-13-08; 8:45 am]

BILLING CODE 4000-01-P